DEPARTMENT OF AGRICULTURE

Forest Service

Tuxekan Island Timber Sale Environmental Impact Statement

AGENCY: Forest Service, USDA.

ACTION: Notice of intent to prepare an Environmental Impact Statement.

SUMMARY: The Department of Agriculture, Forest Service, will prepare an Environmental Impact Statement (EIS) to provide timber for the Tongass National Forest Timber Sale Program. The Record of Decision will disclose how the Forest Service has selected harvest units, designed roads, and planned for future stand management activities. The proposed action is to harvest approximately 20 MMBF of timber on Tuxekan Island. A range of alternatives responsive to significant issues will be developed and include a no-action alternative. The proposed project is located on Tuxekan Island west of Prince of Wales Island in townships 69 and 70 east (T69E, T70E) and ranges 78 and 79 south (R78S, R79S), Copper River Meridian, on the Thorne Bay Ranger District of the Tongass National Forest.

DATES: Comments concerning the scope of this project should be received by May 31, 2000.

ADDRESSES: Please send written comments to District Ranger; Thorne Bay Ranger District; Tongass National Forest; Attn: Tuxekan Island Timber Sale EIS; P.O. Box 19001; Thorne Bay, AK 99919.

FOR FURTHER INFORMATION CONTACT: Questions about the proposal and EIS should be directed to: Stan McCoy, Thorne Bay Ranger District, Tongass National Forest, P.O. Box 19001, Thorne Bay, AK 99919, telephone (907) 828-3243 or E-mail: samccoy@fs.fed.us.

SUPPLEMENTARY INFORMATION: (1) Public Participation: Public participation will be an integral component of the study process and will be especially important at several points during the analysis. The first is during the scoping process. The Forest Service will be seeking information, comments, and assistance from Native, Federal, State, local agencies, individuals and organizations that may be interested in, or affected by, the proposed activities. The scoping process will include: (1) Identification of potential issues; (2) identification of issues to be analyzed in depth; and (3) elimination of insignificant issues or those which have been covered by a previous environmental review. Public scoping meetings are scheduled in Alaska at Edna Bay, Klawock, Naukati, and Thorne Bay. Meeting dates are tentatively scheduled for April, 2000 and will be published in the Ketchikan Daily News and the Island News newspapers distributed in southeast Alaska. Meeting dates will also be available from the Thorne Bay Ranger District by calling (907) 828-3304. Written scoping comments are being solicited through a scoping package that will be sent to the project mailing list. For the Forest Service to best use the scoping input, comments should be received by May 31, 2000.

Based on results of scoping and the resource capabilities within the project area, alternatives including a “no action” alternative will be developed for the Draft Environmental Impact Statement (Draft EIS). The Draft EIS filing date with the Environmental Protection Agency (EPA) is scheduled for January 2001. Public comment on the Draft EIS will be solicited for a minimum of 45 days from the date the Environmental Protection Agency publishes the notice of availability in the Federal Register. Subsistence hearings, as provided for in Title VIII, Section 810 of the Alaska National Interest Lands Conservation Act (ANILCA), are planned during this 45-day comment period if needed. The Final EIS is anticipated by October 2001.

To assist the Forest Service in identifying and considering issues and concerns of the proposed action, comments during scoping and comments on the Draft EIS should be as specific as possible. It is also helpful if comments refer to specific pages or chapters of the draft statement. Comments may also address the adequacy of the Draft EIS or the merits of the alternatives formulated and discussed in the statement. Reviewers may wish to refer to the Council on Environmental Quality Regulations for implementing the procedural provisions of the National Environmental Policy Act at 40 CFR 1503.3 in addressing these points.

In addition, Federal court decisions have established that reviewers of Draft EIS statements must structure their participation in the environmental review of the proposal so that it is meaningful and alerts an agency to the reviewer's position and concerns. Vermont Yankee Nuclear Power Corp. v. NRDC, 435 U.S. 519, 553, (1978). Environmental objections that could have been raised at the draft environmental impact statement stage may be waived if not raised until after completion of the final environmental impact statement. City of Angoon v. Hodel, 803 F.2nd 1016, 1022 (9th Cir. 1986) and Wisconsin Heritages, Inc. v. Harris, 490 F. Supp. 1334, 1338 (E.D. Wis. 1980). The reason for this is to ensure that subsistence comments and objections are made available to the Forest Service at a time when it can meaningfully consider them and respond to them in the Final EIS.

Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Requesters should be aware that, under FOIA, confidentiality might be granted in only very limited circumstances, such as to protect trade secrets. The Forest Service will inform the requester of the agencies decision regarding the request for confidentiality, and where the request is denied, the agency will return the submission and notify the requester that the comments may be resubmitted with or without name and address within 7 days. Permits required for implementation including the following:

1. U.S. Army Corps of Engineers

—Approvals of discharge of dredged or fill material into the waters of the United States under Section 404 of the Clean Water Act,

—Approval of the construction of structures or work in navigable waters of the United United States under Section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Responsible Official: Thomas Puchlerz, Forest Supervisor, Tongass National Forest, Federal Building, Ketchikan, Alaska 99901, is the responsible official. The responsible official will consider the comments, response, disclosure of environmental consequences, and applicable laws, regulations, and policies in making the decision and stating the rationale in the Record of Decision.

Dated: March 20, 2000.
Thomas Puchlerz,
Forest Supervisor.

[FR Doc. 00-8054 Filed 3-31-00; 8:45 am]

BILLING CODE 3410-11-M